DEPARTMENT OF ENERGY

Federal Energy Regulatory Commission

[Docket No. CP04-011-000]

Chinook Pipeline Company and Omimex Canada Ltd., Applicants; Notice of Application

October 30, 2003.

Take Notice that on October 24, 2003, Chinook Pipeline Company (Chinook) filed in Docket No. CP04-011-000, an application pursuant to Section 3 of the Natural Gas Act (NGA), Part 153 of the regulations of the Federal Energy Regulatory Commission (Commission), Executive Order Nos. 10485 and 12038 and the Secretary of Energy's Delegation Order No. 0204-112 to transfer from Chinook to Omimex Canada, Ltd. (Omimex) the authorization and Presidential Permit previously issued to Chinook. Chinook requests the Commission to issue an order transferring to Omimex the NGA Section 3 authorization and Presidential Permit to operate and maintain facilities at the international boundary between the United States and Canada in Blaine County, Montana and near Loomis, Saskatchewan, Canada (the Facilities) for the exportation of natural gas to Canada.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a application will be issued.

Comment Date: November 20, 2003.

Magalie R. Salas,
Secretary.

[FR Doc. E3-00166 Filed 11-04-03; 8:45 am]

BILLING CODE 6717-01-P